DEPARTMENT OF TRANSPORTATION

Office of the Secretary

49 CFR Part 1

[Docket No. OST 2008-0103]

RIN 2105-AD73

Organization and Delegation of Powers and Duties; Secretarial Succession

AGENCY: Office of the Secretary of Transportation (OST), DOT.

ACTION: Final rule.

SUMMARY: This amendment will revise the order of Secretarial succession for the Department. This action is taken on the Department's initiative.

DATES: Effective Date: March 19, 2008.

FOR FURTHER INFORMATION CONTACT: Donna O'Berry, Office of the Assistant General Counsel for Operations, Department of Transportation, 1200 New Jersey Avenue, SE., Room W96-317, Washington, DC 20590; Telephone (202) 366-6136.

SUPPLEMENTARY INFORMATION:

Background

In 49 CFR 1.26, the order of succession to act as Secretary of Transportation is set forth as follows: The Deputy Secretary, Under Secretary of Transportation for Policy, General Counsel, Assistant Secretary for Aviation and International Affairs, Assistant Secretary for Transportation Policy, Assistant Secretary for Budget and Programs, Assistant Secretary for Governmental Affairs, Assistant Secretary for Administration, Federal Aviation Administrator, Federal Aviation Administration Regional Administrator, Southwest Region, Federal Aviation Administrator Regional Administrator, Great Lakes Region.

Section 102(e) of title 49, United States Code, authorizes the Secretary to prescribe the order of succession for the Department's Assistant Secretaries and the General Counsel. We are updating our Secretarial Order of Succession to reflect recent Secretarial decisions concerning the order of succession for Assistant Secretaries of Transportation.

As this rule relates solely to Departmental organization, procedures, and practice, notice and comment on it are unnecessary under 5 U.S.C. 553(b). In addition, the Secretary finds that security and continuity of operations interests constitute good cause for making this rule effective upon publication pursuant to 5 U.S.C. 553(d)(2).

Regulatory Analyses and Notices

A. Executive Order 12866 and DOT Regulatory Policies and Procedures

This final rule is not considered a significant regulatory action under Executive Order 12866 (“Regulatory Planning and Process”), and the Regulatory Policies and Procedures of the Department of Transportation (44 FR 11034). There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act (5 U.S.C. 553), the provisions of the Regulatory Flexibility Act (5 U.S.C. 601 et seq.) do not apply.

E. Paperwork Reduction Act

This final rule contains no information collection requirements under the Paperwork Reduction Act of 1995 (44 U.S.C. 3501-3520).

F. Unfunded Mandates Reform Act

The Department has determined that the requirements of Title II of the Unfunded Mandates Reform Act of 1995 do not apply to this rulemaking.

List of Subjects in 49 CFR Part 1

Authority delegations (Government agencies), Organization and functions (Government agencies).

In consideration of the foregoing, Part 1 of Title 49, Code of Federal Regulations, is amended as follows:

PART 1—ORGANIZATION AND DELEGATION OF POWERS AND DUTIES

1. The authority citation for part 1 continues to read as follows:

Authority: 49 U.S.C. 322; 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 107-295, 116 Stat 2065; Pub. L. 107-296, 116 Stat. 2135; 41 U.S.C. 414; Pub. L. 108-426, 118 Stat. 2423.

2. Amend § 1.26 by revising paragraph (a) to read as follows:

§ 1.26 Secretarial succession.

(a) The following officials, in the order indicated, shall act as Secretary of Transportation, in case of the absence or disability of the Secretary, until the absence or disability ceases, or in the case of a vacancy, until a successor is appointed. Notwithstanding the provisions of this section, the President retains discretion, to the extent permitted by the law, to depart from this order in designating an acting Secretary of Transportation.

(1) Deputy Secretary.

(2) Under Secretary of Transportation for Policy.

(3) General Counsel.

(4) Assistant Secretary for Budget and Programs.

(5) Assistant Secretary for Transportation Policy.

(6) Assistant Secretary for Governmental Affairs.

(7) Assistant Secretary for Aviation and International Affairs.

(8) Assistant Secretary for Administration.

(9) Federal Aviation Administrator.

(10) Federal Aviation Administration Regional Administrator, Southwest Region.

(11) Federal Aviation Administration Regional Administrator, Great Lakes Region.

* * * * *

Issued in Washington, DC on March 10, 2008.
Mary E. Peters,
Secretary of Transportation.

[FR Doc. E8-5543 Filed 3-18-08; 8:45 am]

BILLING CODE 4910-62-P